NATIONAL SCIENCE FOUNDATION

Advisory Panel for Bimolecular Processes; Notice of Meeting

In accordance with the Federal Advisory Committee Act (Pub. L. 92-463, as amended), the National Science Foundation announces the following meeting.

Name: Advisory Panel for Biomolecular Processes (5138) (Panel B).

Date/Time: May 1-3, 2000, 8:30 A.M. to 5:00 P.M.

Place: National Science Foundation, 4201 Wilson Blvd. Room 370, Arlington, VA.

Type of Meeting: Closed.

Contact Person: Joanne Tornow, Program Director, or Susan Porter Ridley, Assistant Program Manager for Biochemistry of Gene Expression, Room 655, National Science Foundation, 4201 Wilson Boulevard, Arlington, Virginia 22230, (703) 306-1441.

Purpose of Meeting: To provide advice and recommendations concerning proposals submitted to NSF for financial support.

Reason for Closing: The proposals being reviewed include information of a proprietary or confidential nature, including, technical information; financial data, such as salaries and personal information concerning individuals associated with the proposals. These matters are exempt under 5 U.S.C. 552b(c) (4) and (6) of the Government in the Sunshine Act.

Dated: February 23, 2000.
Karen J. York,
Committee Management Office.

[FR Doc. 00-4713 Filed 2-28-00; 8:45 am]

BILLING CODE 7555-01-M